DEPARTMENT OF HEALTH AND HUMAN SERVICES

Indian Health Service

Rates for Calendar Year 2001

Notice is given that the Director of Indian Health Service (IHS), under the authority of sections 321(a) and 322(b) of the Public Health Service Act (42 U.S.C. 248(a) and 249(b)) and section 601 of the Indian Health Care Improvement Act (25 U.S.C. 1601), has approved the following rates for inpatient and outpatient medical care provided by IHS facilities for Calendar Year 2001 for Medicare and Medicaid Beneficiaries and Beneficiaries of other Federal Agencies. Since the inpatient rates do not include physician services, IHS facilities may also be entitled to bill State Medicaid programs for physician services to the extent that those services meet applicable requirements under an approved State Medicaid plan.

Inpatient Hospital Per Diem Rate (Excludes Physician Services)

Calendar Year 2001

Lower 48 States—$1,306

Alaska—$1,813

Outpatient Per Visit Rate (Other Than Medicare)

Calendar Year 2001

Lower 48 States—$185

Alaska—$349

Outpatient Per Visit Rate (Medicare)

Calendar Year 2001

Lower 48 States—$157

Alaska—$334

Medicare Part B Inpatient Ancillary Per Diem Rate

Calendar Year 2001

Lower 48 States—$751

Alaska—$997

Outpatient Surgery Rate (Medicare)

Established Medicare rates for freestanding Ambulatory Surgery Centers.

Effective Date for Calendar Year 2001 Rates

Consistent with previous annual rate revisions, the Calendar Year 2001 rates will be effective for services provided on/or after January 1, 2001 to the extent consistent with payment authorities including the applicable Medicaid State plan.

Regulatory Impact

We have examined the impacts of this rule as required by Executive Order 12866 and the Regulatory Flexibility Act (RFA) (Pub. L. 96-354). Executive Order 12866 directs agencies to assess all cost and benefits of available regulatory alternatives and, if regulation is necessary, to select regulatory approaches that maximize net benefits (including potential economic, environmental, public health and safety effects, distributive impacts, and equity). A Regulatory Impact Analysis (RIA) must be prepared for major rules with economically significant effects ($100 million or more annually). This notice is not a major notice because we have determined that the economic impact will be negligible.

Section 202 of the Unfunded Mandates Reform Act of 1995 also requires that agencies assess anticipated costs and benefits before issuing any rule that may result in an expenditure in any one year by State, local, or tribal governments, in the aggregate, or by the private sector, of $100 million. This rule will not have a significant economic effect on these governments or the private sector.

The Department has determined that this notice does not have a substantial effect on States or local governments under Executive Order 13132 and will not interfere with the roles, rights and responsibilities of States or local governments. We are not preparing analysis for the RFA because we have determined, and we certify, that this rule will not have a significant economic impact on a substantial number of small entities.

In accordance with the provisions of Executive Order 12866, this notice was reviewed by the Office of Management and Budget.

Dated: January 18, 2001.
Michel E. Lincoln,
Deputy Director.

[FR Doc. 01-2131 Filed 1-23-01; 8:45 am]

BILLING CODE 4160-16-M